FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 17, 2016.

A. Federal Reserve Bank of Minneapolis (Jacquelyn K. Brunmeier, Assistant Vice President) 90 Hennepin Avenue, Minneapolis, Minnesota 55480-0291:

1. Irrevocable Trust Agreement of Robert Vogel effective February 11, 1994, Elko New Market, Minnesota, Laura Vogel, trustee of the Trust, Elko New Market, Minnesota; to acquire voting shares of Market Bancorporation, Elko New Market, Minnesota, and join the Vogel Family Group that controls shares of Market Bancorporation, Elko New Market, Minnesota, and thereby indirectly controls New Market Bank, Elko New Market, Minnesota.

B. Federal Reserve Bank of Dallas (Robert L. Triplett III, Senior Vice President) 2200 North Pearl Street, Dallas, Texas 75201-2272:

1. Bastrop Bancshares, Inc. Employee Stock Ownership Plan, Bastrop, Texas (“ESOP”), and Amanda Lorraine Wickliffe, Bastrop, Texas; John Daniel Mican, Bastrop, Texas; Dianna Fiebrich Kana, Bastrop, Texas; Tammy Lynn Goertz, Rosanky, Texas; and Robert Edward Berryhill, Smithville, Texas;

individually and as co-trustees of ESOP, acting as a group in concert, to retain and acquire additional shares of Bastrop Bancshares, Inc., Bastrop, Texas, and indirectly First National Bank of Bastrop, Bastrop, Texas.

Board of Governors of the Federal Reserve System, January 29, 2016.
Michael J. Lewandowski,
Associate Secretary of the Board.

[FR Doc. 2016-02086 Filed 2-3-16; 8:45 am]

BILLING CODE 6210-01-P